DEPARTMENT OF LABOR

Employment and Training Administration

[TA-W-50,779]

Jacobson Greenhouse, Inc. Spokane, WA; Notice of Termination of Investigation

Pursuant to Section 221 of the Trade Act of 1974, as amended, an investigation was initiated on February 4, 2003 in response to a worker petition filed by a company official on behalf of workers of Jacobson Greenhouse, Inc., Spokane, Washington.

The petitioning group of workers was separated from the Jacobson Greenhouse, Inc., Spokane, Washington in January 1998, when the company ceased all its production. Consequently, further investigation in this case would serve no purpose, and the investigation has been terminated.

Signed at Washington, DC, this 20th day of February, 2003.
Linda G. Poole,
Certifying Officer, Division of Trade Adjustment Assistance.

[FR Doc. 03-5419 Filed 3-6-03; 8:45 am]

BILLING CODE 4510-30-P